COMMODITY FUTURES TRADING COMMISSION

Agency Information Collection Activities: Notice of Intent To Renew Collection 3038-0005, Rules Relating to the Operations and Activities of Commodity Pool Operators and Commodity Trading Advisors and to Monthly Reporting by Futures Commission Merchants

AGENCY: Commodity Futures Trading Commission.

ACTION: Notice.

SUMMARY: The Commodity futures Trading Commission (CFTC) is announcing an opportunity for public comment on the proposed collection of certain information by the agency. Under the Paperwork Reduction Act of 1995 (PRA), 44 U.S.C. 3501 et.seq., Federal agencies are required to publish notice in the Federal Register concerning each proposed collection of information, and to allow 60 days for comment in response to the notice. This notice solicits comments on requirements relating to information to assist the Commission in the prevention of market manipulations.

DATES: Comments must be submitted on or before April 23, 2004.

ADDRESSES: Comments may be mailed to Kevin Walek, Division of Clearing and Intermediary Oversight, U.S. Commodity Futures Trading Commission, 1155 21st Street NW., Washington, DC 20581.

FOR FURTHER INFORMATION CONTACT: Kevin Walek, (202) 418-5463; FAX (202) 418-5536; e-mail: kwalek@cftc.gov.

SUPPLEMENTARY INFORMATION: Under the PRA, Federal agencies must obtain approval from the Office of Management and Budget (OMB) for each collection of information they conduct or sponsor. “Collection of information” is defined in 44 U.S.C. 3502(e) and 5 CFR 1320.3(c) and includes agency requests or requirements that members of the public submit reports, keep records, or provide information to a third party. Section 3506(c)(2)(A) of the PRA, 44 Section 3506(c)(2)(A), requires Federal Agencies to provide a 60-day notice in the Federal Register concerning each proposed collection of information, including each proposed extension of an existing collection of information, before submitting the collection to OMB for approval. To comply with this requirement, the CFTC is publishing notice of the proposed collection of information listed below.

With respect to the following collection of information, the CFTC invites comments on:

• Whether the proposed collection of information is necessary for the proper performance of the functions of the Commission, including whether the information will have a practical use;

• The accuracy of the Commission's estimate of the burden of the proposed collection of information, including the validity of the methodology and assumptions used;

• Ways to enhance the quality of, usefulness, and clarity of the information to be collected; and

• Ways to minimize the burden of collection of information on those who are to respond, including through the use of appropriate electronic, mechanical, or other technological collection techniques or other forms of information technology; e.g., permitting electronic submission of responses.

Rules Relating to the Operations and Activities of Commodity Pool Operators and Commodity Trading Advisors and to Monthly Reporting by Futures Commission Merchants, OMB Control No. 3038-0005-Extension

Part 4 of the Commission's Regulations set forth the Commission's rules regarding the disclosure of risk, the filing of reports, and the keeping of books and records. Each CPO who is registered or required to be registered and solicits prospective participants in a commodity pool must, absent an exemption, deliver to prospective participants, and file with the NFA, a Disclosure Document containing information specified by 4.24 and 4.25 before the CPO may accept funds or other property in exchange for participation in the pool. CTAs also must comply with the disclosure requirements of 4.34 and 4.35 before they may enter into an agreement to direct or to guide a client's commodity interest trading account.

Rule 4.22 requires the CPOs who are registered or required to be registered also must provide pool participants with an unaudited monthly or quarterly Account statement for the pool, and an annual Report for the pool that contains the net asset value of the pool and Statements to Financial Condition, Income (Loss), Changes in Financial Position, and Changes in Ownership Equity. Rule 4.23 for CPOs, and 4.33 for CTAs provide for the types of books and records that must be maintained by these registrants.

The Commission estimates the burden of this collection of information as follows:

Estimated Annual Reporting Burden

Number of Respondents: 7,200.

Total Annual Responses: 17,705

Total Annual Hours: 115,871.

Dated: February 17, 2004.
Jean A. Webb,
Secretary of the Commission.

[FR Doc. 04-3790 Filed 2-20-04; 8:45 am]

BILLING CODE 6351-01-M